OFFICE OF PERSONNEL MANAGEMENT

Excepted Service

AGENCY: Office of Personnel Management.

ACTION: Notice.

SUMMARY: This gives notice of OPM decisions granting authority to make appointments under Schedules A, B and C in the excepted service as required by 5 CFR 6.6 and 213.103.

FOR FURTHER INFORMATION CONTACT: Quasette Crowner, Chief, Executive Resources Group, Center for Leadership and Executive Resources Policy, Division for Strategic Human Resources Policy, 202-606-8046.

SUPPLEMENTARY INFORMATION: Appearing in the listing below are the individual authorities established under Schedules A, B and C between May 1, 2005 and May 31, 2005. Future notices will be published on the fourth Tuesday of each month, or as soon as possible thereafter. A consolidated listing of all authorities as of June 30 is published each year.

Schedule A

No Schedule A appointments were approved for May 2005.

Schedule B

No Schedule B appointments were approved for May 2005.

Schedule C

The following Schedule C appointments were approved during May 2005:

Section 213.3303 Executive Office of the President

Council on Environmental Quality

EQGS00021 Communications Analyst to the Associate Director for Communications. Effective May 05, 2005.

Office of Management and Budget

BOGS60035 Confidential Assistant to the Administrator, Office of Federal Procurement Policy. Effective May 26, 2005.

Section 213.3304 Department of State

DSGS60949 Public Affairs Specialist to the Coordinator for International Information Programs. Effective May 09, 2005.

DSGS60951 Congressional Affairs Manager to the Assistant Secretary for International Organizational Affairs. Effective May 09, 2005.

DSGS60965 Foreign Affairs Officer to the Deputy Assistant Secretary. Effective May 11, 2005.

DSGS60962 Legislative Management Officer to the Assistant Secretary for Legislative and Intergovernmental Affairs. Effective May 13, 2005.

DSGS60963 Legislative Management Officer to the Assistant Secretary for Legislative and Intergovernmental Affairs. Effective May 13, 2005.

Section 213.3305 Department of the Treasury

DYGS00457 Senior Advisor to the Chief of Staff. Effective May 27, 2005.

Section 213.3306 Department of Defense

DDGS16879 Defense Fellow to the Special Assistant to the Secretary of Defense for White House Liaison. Effective May 17, 2005.

DDGS16876 Staff Assistant to the Deputy Assistant Secretary of Defense (Detainee Affairs). Effective May 19, 2005.

DDGS16878 Defense Fellow to the Special Assistant to the Secretary of Defense for White House Liaison. Effective May 26, 2005.

DDGS16872 Special Assistant to the Assistant Secretary of Defense (International Secretary Policy). Effective May 27, 2005.

Section 213.3307 Department of the Army

DWGS60017 Special Assistant to the Army General Counsel. Effective May 06, 2005.

Section 213.3309 Department of the Air Force

DFGS60012 Personal and Confidential Assistant to the General Counsel. Effective May 26, 2005.

Section 213.3310 Department of Justice

DJGS00117 Deputy Director, Office of Faith-Based and Community Initiatives to the Director, Office of Faith-Based and Community Initiatives. Effective May 17, 2005.

DJGS00306 Special Assistant to the Director, Office of Intergovernmental and Public Liaison. Effective May 20, 2005.

DJGS00057 Chief of Staff to the Principal Deputy Assistant Attorney General. Effective May 26, 2005.

Section 213.3311 Department of Homeland Security

DMGS00353 Executive Assistant to the Director, State and Local Affairs. Effective May 06, 2005.

DMGS00366 Assistant Director for Legislative Affairs to the Chief of Staff. Effective May 09, 2005.

DMGS00360 Writer-Editor to the Executive Secretary. Effective May 11, 2005.

DMGS00352 Special Assistant to the Assistant Secretary for Infrastructure Protection. Effective May 13, 2005.

DMGS00368 Press Assistant to the Assistant Secretary for Public Affairs. Effective May 13, 2005.

DMGS00357 Trip Coordinator to the Chief of Staff. Effective May 17, 2005.

DHGS60255 Regional Director, Chicago, Illinois-Region V, to the Director of Intergovernmental Affairs. Effective May 20, 2005.

DMGS00361 Confidential Assistant to the Director of Scheduling and Advance. Effective May 20, 2005.

DMGS00364 Assistant Director for Legislative Affairs, Information Analysis and Infrastructure Protection to the Assistant Secretary for Legislative Affairs. Effective May 26, 2005.

DMGS00369 Press Assistant to the Assistant Secretary for Public Affairs. Effective May 26, 2005.

DMGS00365 Advance Representative to the Director of Scheduling and Advance. Effective May 27, 2005.

DMGS00367 Writer-Editor (Speechwriter) to the Assistant Secretary for Public Affairs. Effective May 27, 2005.

DJGS00045 Deputy Director, Office for Victims of Crime to the Director Office for Victims of Crime. Effective May 27, 2005.

Section 213.3312 Department of the Interior

DIGS61038 Special Assistant to the Director Minerals Management Service. Effective May 26, 2005.

Section 213.3313 Department of Agriculture

DAGS00795 Confidential Assistant to the Deputy Administrator-Program Operations. Effective May 02, 2005.

Section 213.3314 Department of Commerce

DCGS00560 Senior Policy Advisor to the Assistant to the Secretary and Director, Office of Policy and Strategic Planning. Effective May 10, 2005.

DCGS60458 Deputy Director of Marketing for Outreach to the Executive Director for Trade Promotion and Outreach. Effective May 19, 2005.

DCGS00237 Special Assistant to the Deputy Assistant Secretary for Industry Analysis. Effective May 26, 2005.

DCGS00315 Director of Public Affairs to the Assistant Secretary for Economic Development. Effective May 26, 2005.

Section 213.3315 Department of Labor

DLGS60240 Legislative Assistant to the Assistant Secretary for Congressional and Intergovernmental Affairs. Effective May 03, 2005.

DLGS60146 Attorney Advisor to the Solicitor of Labor. Effective May 13, 2005.

DLGS60163 Chief of Staff to the Assistant Secretary for Occupational Safety and Health. Effective May 27, 2005.

Section 213.3316 Department of Health and Human Services

DHGS60020 Senior Advisor to the Assistant Secretary for Health. Effective May 10, 2005.

Section 213.3317 Department of Education

DBGS00390 Confidential Assistant to the Director, Scheduling and Advance Staff. Effective May 03, 2005.

DBGS00392 Special Assistant to the Secretary. Effective May 04, 2005.

DBGS00394 Confidential Assistant to the Assistant Secretary for Elementary and Secondary Education. Effective May 09, 2005.

DBGS00396 Special Assistant to the Director, Faith-Based and Community Initiatives Center. Effective May 18, 2005.

Section 213.3318 Environmental Protection Agency

EPGS05019 Program Advisor (Media Relations) to the Associate Administrator for Public Affairs. Effective May 09, 2005.

EPGS05018 Deputy Associate Administrator for Office of Congressional Affairs to the Associate Administrator for Congressional and Intergovernmental Relations. Effective May 26, 2005.

Section 213.3327 Department of Veterans Affairs

DVGS60106 Special Assistant to the Assistant Secretary for Congressional and Legislative Affairs. Effective May 27, 2005.

Section 213.3328 Broadcasting Board of Governors

IBGS00020 Special Assistant to the Chairman, Broadcasting Board of Governors. Effective May 26, 2005.

Section 213.3330 Securities and Exchange Commission

SEOT60057 Legislative Affairs Specialist to the Director of Legislative Affairs. Effective May 31, 2005.

Section 213.3331 Department of Energy

DEGS00469 Trip Coordinator to the Director, Office of Scheduling. Effective May 9, 2005.

DEGS00465 Special Assistant to the Chief of Staff. Effective May 19, 2005.

DEGS00471 Special Assistant to the Director, Public Affairs. Effective May 26, 2005.

DEGS00460 Special Assistant to the Assistant Secretary for Congressional and Intergovernmental Affairs. Effective May 31, 2005.

Section 213.3332 Small Business Administration

SBGS00587 Senior Advisor for Policy and Planning to the Associate Administrator for Policy. Effective May 17, 2005.

Section 213.3337 General Services Administration

GSGS00165 Special Assistant to the Chief Acquisition Officer. Effective May 09, 2005.

Section 213.3348 National Aeronautics and Space Administration

NNGS00157 Special Assistant (Correspondence) to the Administrator. Effective May 19, 2005.

NNGS00155 Executive Assistant to the Chief of Strategic Communications. Effective May 26, 2005.

Section 213.3355 Social Security Administration

SZGS00017 Associate Commissioner for External Affairs to the Deputy Commissioner for Communications. Effective May 26, 2005.

Section 213.3376 Appalachian Regional Commission

APGS00005 Policy Advisor to the Federal Co-Chairman. Effective May 03, 2005.

Section 213.3384 Department of Housing and Urban Development

DUGS60138 Special Assistant to the Assistant Secretary for Community Planning and Development. Effective May 27, 2005.

Section 213.3394 Department of Transportation

DTGS60377 Director of Congressional, International, and Public Affairs to the Deputy Administrator. Effective May 17, 2005.

Authority: 5 U.S.C. 3301 and 3302; E.O. 10577, 3 CFR 1954-1958 Comp., P.218

Office of Personnel Management.
Dan G. Blair,
Acting Director.

[FR Doc. 05-12218 Filed 6-20-05; 8:45 am]

BILLING CODE 6325-01-P